FEDERAL COMMUNICATIONS COMMISSION

47 CFR Part 54

[WC Docket Nos. 10-90, 14-58, 09-197, and 16-271; RM-11868; Report No. 3203; FR ID 183017]

Petitions for Reconsideration of Action in Rulemaking Proceeding

AGENCY: Federal Communications Commission.

ACTION: Petition for Reconsideration.

SUMMARY: Petitions for Reconsideration (Petitions) have been filed in the Commission's proceeding Connect America Fund: A National Broadband Plan for Our Future High-Cost Universal Service Support, ETC Annual Reports and Certifications, Telecommunications Carriers Eligible to Receive Universal Service Support, Connect America Fund—Alaska Plan, and Expanding Broadband Service Through the ACAM Program.

DATES: Oppositions to the Petitions must be filed on or before December 12, 2023. Replies to oppositions must be filed on or before December 22, 2023.

ADDRESSES: Federal Communications Commission, 45 L Street NE, Washington, DC 20554.

FOR FURTHER INFORMATION CONTACT: For additional information on this proceeding, contact Stephen Wang of the Wireline Competition Bureau, Telecommunications Access Policy Division, at (202) 418-7400 or Stephen.Wang@fcc.gov.

SUPPLEMENTARY INFORMATION: This is a summary of the Commission's document, Report No. 3203, released October 31, 2023. The full text of the Petitions can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Connect America Fund: A National Broadband Plan for Our Future High-Cost Universal Service Support (WC Docket Nos. 10-90, 14-58, 09-197, and 16-271; RM-11868).

Number of Petitions Filed: 5.

Federal Communications Commission.
Marlene Dortch,
Secretary, Office of the Secretary.

[FR Doc. 2023-25858 Filed 11-24-23; 8:45 am]

BILLING CODE 6712-01-P